SECURITIES AND EXCHANGE COMMISSION

Sunshine Act Meetings

FEDERAL REGISTER CITATION OF PREVIOUS ANNOUNCEMENT: 83 FR 35041, July 24, 2018.

PREVIOUSLY ANNOUNCED TIME AND DATE OF THE MEETING: Thursday, July 26, 2018 at 2:00 p.m.

CHANGES IN THE MEETING: The following matter will also be considered during the 2 p.m. Closed Meeting scheduled for Thursday, July 26, 2018:

Formal order of investigation

CONTACT PERSON FOR MORE INFORMATION: For further information and to ascertain what, if any, matters have been added, deleted or postponed, please contact the Office of the Secretary at (202) 551-5400.

Dated: July 23, 2018.
Brent J. Fields,
Secretary.

[FR Doc. 2018-16035 Filed 7-24-18; 11:15 am]

BILLING CODE 8011-01-P